FEDERAL COMMUNICATIONS COMMISSION

Radio Broadcasting Services; AM or FM Proposals To Change the Community of License

AGENCY: Federal Communications Commission.

ACTION: Notice.

SUMMARY: The following applicants filed AM or FM proposals to change the community of license: ANDERSON RADIO BROADCASTING, INC., Station KZXT, Facility ID 164302, BMPH-20080904ABB, From EUREKA, MT, To EVERGREEN, MT; ATHENS CHRISTIAN RADIO, INC., Station NEW, Facility ID 172936, BMPED-20080925ACR, From CRAWFORDVILLE, GA, To GREENSBORO, GA; BIRACH BROADCASTING CORPORATION, Station WGOP, Facility ID 5347, BP-20071102ARL, From POCOMOKE CITY, MD, To DAMASCUS, MD; CC LICENSES, LLC, Station WPHR-FM, Facility ID 25018, BPH-20080902ADS, From AUBURN, NY, To SOLVAY, NY; COX RADIO, INC., Station WNGC, Facility ID 60810, BPH-20080118AAC, From TOCCOA, GA, To ARCADE, GA; COX RADIO, INC., Station WXKT, Facility ID 3078, BPH-20080619AJQ, From ROYSTON, GA, To MAYSVILLE, GA; DAKOTA COMMUNICATIONS, LTD., Station KZNC, Facility ID 15262, BPH-20080828AAX, From HURON, SD, To MILBANK, SD; KIMBALL RADIO, LLC, Station KYOY, Facility ID 77915, BPH-20080910ABW, From KIMBALL, NE, To HILLSDALE, WY; LA NUEVA CADENA RADIO LUZ INCORPORATED, Station KBAW, Facility ID 86858, BPH-20081006AIX, From ZAPATA, TX, To RANCHITOS LOS LOMAS, TX; LEGEND COMMUNICATIONS OF WYOMING, LLC, Station KYTS, Facility ID 165979, BMPH-20080916ABE, From TEN SLEEP, WY, To MANDERSON, WY; MICHAEL RADIO GROUP, Station KRKI, Facility ID 89114, BPH-20080929AIT, From NEWCASTLE, WY, To KEYSTONE, SD; NORTHERN LIGHTS BROADCASTING, LLC, Station KTTB, Facility ID 70705, BPH-20080902ADD, From GLENCOE, MN, To EDINA, MN; NORTHERN LIGHTS BROADCASTING, LLC, Station KRBI, Facility ID 31874, BP-20080902ADB, From ST. PETER, MN, To GLENCOE, MN; SAGA COMMUNICATIONS OF ILLINOIS, LLC, Station WYMG, Facility ID 58537, BPH-20080820AAI, From JACKSONVILLE, IL, To CHATHAM, IL; SAIDNEWSFOUNDATION, Station WJKZ, Facility ID 175750, BMPED-20080915AAN, From HANOVER, MI, To HOMER, MI; SOUTHERN STONE BROADCASTING, INC., Station WMGZ, Facility ID 41993, BPH-20070416ACW, From EATONTON, GA, To WASHINGTON, GA; THE UNIVERSITY OF FINDLAY, Station WLFC, Facility ID 21474, BPED-20080902AEA, From FINDLAY, OH, To NORTH BALTIMORE, OH; VINEYARD CHRISTIAN FELLOWSHIP OF HONOLULU, INC., Station KPHL, Facility ID 91242, BPED-20080910ABT, From PAHALA, HI, To HAWAIIAN OCEAN VIEW, HI.

DATES: Comments may be filed through December 19, 2008.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division Media Bureau.

[FR Doc. E8-24934 Filed 10-17-08; 8:45 am]

BILLING CODE 6712-01-P